DEPARTMENT OF TRANSPORTATION

Federal Aviation Administration

14 CFR Part 97

[Docket No. 29927; Amdt. No. 1976]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matter incorporated by reference in the amendment is as follows:

For Examination

1. FAA Rules Docket, FAA Headquarters Building, 800 Independence Avenue, SW., Washington, DC 20591;

2. The FAA Regional Office of the region in which affected airport is located; or

3. The Flight Inspection Area Office which originated the SIAP.

For Purchase

Individual SIAP copies may be obtained from:

1. FAA Public Inquiry Center (APA-200), FAA Headquarters Building, 800 Independence Avenue, SW., Washington, DC 20591; or

2. The FAA Regional Office of the region in which the affected airport is located.

By Subscription

Copies of all SIAPs, mailed once every 2 weeks, are for sale by the Superintendent of Documents, US Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to part 97 of the Federal Aviation Regulations (14 CFR part 97) establishes, amends, suspends, or revokes Standard Instrument Approach Procedures (SIAPs). The complete regulatory description on each SIAP is contained in the appropriate FAA Form 8260 and the National Flight Data Center (FDC)/Permanent (P) Notices to Airmen (NOTAM) which are incorporated by reference in the amendment under 5 U.S.C. 552(a), 1 CFR part 51, and § 97.20 of the Federal Aviation's Regulations (FAR). Materials incorporated by reference are available for examination or purchase as stated above.

The large number of SIAPs, their complex nature, and the need for a special format make their verbatim publication in the Federal Register expensive and impractical. Further, airmen do not use the regulatory text of the SIAPs, but refer to their graphic depiction of charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 of the Federal Aviation Regulations (14 CFR part 97) establishes, amends, suspends, or revokes SIAPs. For safety and timeliness of change considerations, this amendment incorporates only specific changes contained in the content of the following FDC/P NOTAMs for each SIAP. The SIAP information in some previously designated FDC/Temporary (FDC/T) NOTAMs is of such duration as to be permanent. With conversion to FDC/P NOTAMs, the respective FDC/T NOTAMs have been canceled.

The FDC/P NOTAMs for the SIAPs contained in this amendment are based on the criteria contained in the U.S. Standard for Terminal Instrument Procedures (TERPS). In developing these chart changes to SIAPs by FDC/P NOTAMs, the TERPS criteria were applied to only these specific conditions existing at the affected airports. All SIAP amendments in this rule have been previously issued by the FAA in a National Flight Data Center (FDC) Notice to Airmen (NOTAM) as an emergency action of immediate flight safety relating directly to published aeronautical charts. The circumstances which created the need for all these SIAP amendments requires making them effective in less than 30 days.

Further, the SIAPs contained in this amendment are based on the criteria contained in the TERPS. Because of the close and immediate relationship between these SIAPs and safety in air commerce, I find that notice and public procedure before adopting these SIAPs are impracticable and contrary to the public interest and, where applicable, that good cause exists for making these SIAPs effective in less than 30 days.

Conclusion

The FAA has determined that this regulation only involves an established body of technical regulations for which frequent and routine amendments are necessary to keep them operationally current. It, therefore—(1) Is not a “significant regulatory action” under Executive Order 12866; (2) Is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (air).

Issued in Washington, DC on February 18, 2000.
L. Nicholas Lacey,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 40103, 40113, 40120, 44701; 49 U.S.C. 106(g); and 14 CFR 11.49(b)(2).

2. Part 97 is amended to read as follows:

§ § 97.23, 97.25, 97.27, 97.29, 97.31, 97.33, 97.35 [AMENDED]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

Effective Upon Publication

FDC date | State | City | Airport | FDC No. | SIAP
02/01/00 | GA | ATLANTA | THE WILLIAM B. HARTSFIELD ATLANTA INTL | FDC 0/0805 | ILS RWY 9L, ADMT 6A...
02/02/00 | IA | WATERLOO | WATERLOO MUNI | FDC 0/1053 | ILS RWY 12, AMDT 8A...
02/02/00 | IL | DANVILLE | VERMILION COUNTY | FDC 0/1049 | VOR/DME RNAV OR GPS RWY 34, AMDT 4...
02/02/00 | NC | ASHEVILLE | ASHEVILLE REGIONAL | FDC 0/1054 | ILS RWY 34 AMDT 23D...
02/02/00 | NC | ASHEVILLE | ASHEVILLE REGIONAL | FDC 0/1055 | NDB OR GPS RWY 34 AMDT 18B...
02/02/00 | NM | DEMING | DEMING MUNI | FDC 0/1039 | GPS RWY 4, ORIG...
02/02/00 | NM | FARMINGTON | FOUR CORNERS REGIONAL | FDC 0/1037 | GPS RWY 25, ORIG...
02/02/00 | NM | FARMINGTON | FOUR CORNERS REGIONAL | FDC 0/1038 | VOR/DME OR GPS RWY 7, AMDT 3A...
02/02/00 | NM | HOBBS | LEA COUNTY/HOBBS | FDC 0/1046 | GPS RWY 30, ORIG...
02/02/00 | PA | CONNELLSVILLE | CONNELLSVILLE | FDC 0/1001 | LOC RWY 5 AMDT 2A...
02/02/00 | PA | POTTSVILLE | SCHULKILL COUNTY (JOE ZERBEY) | FDC 0/1000 | VOR OR GPS RWY 4 AMDT 5...
02/02/00 | PA | SELINSGROVE | PENN VALLEY | FDC 0/1002 | VOR OR GPS-A AMDT 5...
02/02/00 | VA | STAUTON-WAYNESBORO-HARRISONBURG | SHENANDOAH VALLEY REGIONAL | FDC 0/1003 | NDB OR GPS RWY 5 AMDT 9A...
02/02/00 | WA | MOSES LAKE | GRANT COUNTY INTL | FDC 0/1027 | GPS RWY 4 ORIG...
02/02/00 | WA | MOSES LAKE | GRANT COUNTY INTL | FDC 0/1028 | GPS RWY 22 ORIG...
02/02/00 | WA | MOSES LAKE | GRANT COUNTY INTL | FDC 0/1029 | VOR RWY 4 AMDT 6...
02/02/00 | WA | OLYMPIA | OLYMPIA | FDC 0/1010 | VOR/DME OR GPS RWY 35 AMDT 11...
02/02/00 | NM | DEMING | DEMING MUNI | FDC 0/1040 | GPS RWY 26, ORIG...
02/02/00 | NM | DEMING | DEMING MUNI | FDC 0/1045 | VOR RWY 26, AMDT 9...
02/03/00 | AZ | PHOENIX | PHOENIX SKY HARBOR INTL | FDC 0/1115 | VOR/DME RWY 26L AMDT 1...
02/03/00 | CA | LONG BEACH | LONG BEACH (DAUGHERTY FIELD) | FDC 0/1077 | NDB RWY 30, AMDT 9A...
02/03/00 | CA | LONG BEACH | LONG BEACH (DAUGHERTY FIELD) | FDC 0/1078 | VOR OR TACAN OR GPS RWY 30, AMDT 7A...
02/03/00 | CO | MONTE VISTA | MONTE VISTA MUNI | FDC 0/1111 | VOR/DME OR GPS-A AMDT 2...
02/03/00 | CO | PUEBLO | PUEBLO MEMORIAL | FDC 0/1112 | ILS RWY 8L AMDT 22...
02/03/00 | MI | FLINT | BISHOP INTL | FDC 0/1073 | ILS RWY 27, AMDT 3...
02/03/00 | NM | HOBBS | LEA COUNTY/HOBBS | FDC 0/1085 | GPS RWY 21, ORIG...
02/03/00 | NM | HOBBS | LEA COUNTY/HOBBS | FDC 0/1089 | GPS RWY 3, ORIG...
02/03/00 | NM | RUIDOSO | SIERRA BLANCA REGIONAL | FDC 0/1094 | GPS RWY 24, ORIG...
02/03/00 | NM | RUIDOSO | SIERRA BLANCA REGIONAL | FDC 0/1096 | NDB RWY 24, AMDT 1A...
02/03/00 | VA | NORFOLK | NORFOLK INTL | FDC 0/1119 | GPS RWY 32 AMDT 1B...
02/03/00 | VA | NORFOLK | NORFOLK INTL | FDC 0/1120 | ILS RWY 34 AMDT 6C...
02/03/00 | VA | NORFOLK | NORFOLK INTL | FDC 0/1121 | VOR/DME RWY 32 AMDT 4B...
02/03/00 | VA | NORFOLK | NORFOLK INTL | FDC 0/1123 | VOR/DME RWY 14 AMDT 2B...
02/03/00 | VA | NORFOLK | NORFOLK INTL | FDC 0/1124 | ILS RWY 5 AMDT 24A...
02/03/00 | VA | NORFOLK | NORFOLK INTL | FDC 0/1125 | GPS RWY 14 ORIG-B...
02/03/00 | VA | NORFOLK | NORFOLK INTL | FDC 0/1126 | NDB RWY 5 ORIG-A...
02/03/00 | VA | NORFOLK | NORFOLK INTL | FDC 0/1127 | VOR/DME RWY 5 AMDT 4A...
02/03/00 | VA | NORFOLK | NORFOLK INTL | FDC 0/1128 | VOR/DME RNAV RWY 14 AMDT 4B...
02/03/00 | WVA | MOSES LAKE | GRANT COUNTY INTL | FDC 0/1087 | VOR/DME RWY 22, AMDT 1...
02/03/00 | WY | RIVERTON | RIVERTON REGIONAL | FDC 0/1098 | GPS RWY 10, ORIG...
02/03/00 | WY | RIVERTON | RIVERTON REGIONAL | FDC 0/1100 | GPS RWY 28, ORIG...
02/03/00 | WY | RIVERTON | RIVERTON REGIONAL | FDC 0/1102 | VOR RWY 10, AMDT 8...
02/04/00 | CA | HEMET | HEMET-RYAN | FDC 0/1148 | GPS RWY 5, ORIG...
02/04/00 | CA | HEMET | HEMET-RYAN | FDC 0/1149 | NDB OR GPS-A, ORIG...
02/04/00 | CA | LA VERNE | BRACKETT FIELD | FDC 0/1145 | VOR OR GPS-A, AMDT 5A...
02/04/00 | CA | LA VERNE | BRACKETT FIELD | FDC 0/1147 | ILS RWY 26L, AMDT 2B...
02/04/00 | IL | ALTON/ST. LOUIS | ST. LOUIS REGIONAL | FDC 0/1166 | VOR OR GPS-A AMDT 8A...
02/04/00 | TX | NEW BRAUNFELS | NEW BRAUNFELS MUNI | FDC 0/1143 | VOR/DME RNAW RWY 31, ORIG...
02/04/00 | VA | MANASSAS | MANASSAS REGIONAL/HARRY P. DAVIS FIELD | FDC 0/1162 | GPS RWY 34R ORIG...
02/04/00 | VA | MANASSAS | MANASSAS REGIONAL/HARRY P. DAVIS FIELD | FDC 0/1163 | VOR/DME RNAV OR GPS RWY 16R AMDT 7A...
02/04/00 | VA | MANASSAS | MANASSAS REGIONAL/HARRY P. DAVIS FIELD | FDC 0/1164 | ILS RWY 16L AMDT 4A...
02/04/00 | VA | MANASSAS | MANASSAS REGIONAL/HARRY P. DAVIS FIELD | FDC 0/1165 | GPS RWY 16L ORIG...
02/04/00 | VA | NORFOLK | NORFOLK INTL | FDC 0/1158 | VOR RWY 23, AMDT 8A...
02/04/00 | VA | NORFOLK | NORFOLK INTL | FDC 0/1159 | NDB/DME OR GPS RWY 23, ORIG-A...
02/04/00 | VA | MANASSAS | MANASSAS REGIONAL/HARRY P. DAVIS FIELD | FDC 0/1161 | NDB OR GPS-A AMDT 8B...
02/07/00 | AZ | BULLHEAD CITY | LAUGHLIN/BULLHEAD INTL | FDC 0/1212 | GPS RWY 34 ORIG...
02/07/00 | AZ | BULLHEAD CITY | LAUGHLIN/BULLHEAD INTL | FDC 0/1245 | VOR/DME RWY 34 ORIG-A...
02/07/00 | AZ | FORT HUACHUCA-SIERRA VISTA | SIERRA VISTA MUNI LIBBY AAF | FDC 0/1226 | GPS RWY 8 ORIG...
02/07/00 | AZ | PHOENIX | PHOENIX SKY HARBOR INTL | FDC 0/1225 | GPS RWY 8L ORIG...
02/07/00 | AZ | PRESCOTT | ERNEST A. LOVE FIELD | FDC 0/1227 | GPS RWY 12 ORIG...
02/07/00 | CA | WOODLAND | WATTS-WOODLAND | FDC 0/1224 | VOR OR GPS-A AMDT 4...
02/07/00 | GA | CALHOUN | TOM B. DAVID FIELD | FDC 0/1236 | LOC RWY 35, AMDT 1...
02/07/00 | NJ | NEWARK | NEWARK INTL | FDC 0/1238 | ILS RWY 4L AMDT 12...
02/07/00 | NJ | NEWARK | NEWARK INTL | FDC 0/1248 | COPTER ILS/DME RWY 4L AMDT 1...
02/07/00 | NV | LAS VEGAS | MC CARRAN INTL | FDC 0/1215 | GPS RWY 1R ORIG...
02/07/00 | TX | SAN MARCOS | SAN MARCOS MUNI | FDC 0/1218 | NDB RWY 12, AMDT 4A...
02/07/00 | VA | PETERSBURG | PETERSBURG MUNI | FDC 0/1220 | VOR OR GPS RWY 23 AMDT 4...
02/07/00 | WA | PASCO | TRI CITIES | FDC 0/1217 | ILS RWY 21R, AMDT 10...
02/08/00 | AL | MONROEVILLE | MONROEVILLE/MONROE COUNTY | FDC 0/1283 | VOR OR GPS RWY 3, AMDT 8...
02/08/00 | AL | MONROEVILLE | MONROEVILLE/MONROE COUNTY | FDC 0/1284 | VOR OR GPS RWY 21, AMDT 8...
02/08/00 | GA | EASTMAN | HEART OF GEORGIA REGIONAL | FDC 0/1268 | VOR/DME RNAV OR GPS RWY 2, AMDT 2...
02/08/00 | GA | EASTMAN | HEART OF GEORGIA REGIONAL | FDC 0/1269 | VOR/DME OR GPS-A, AMDT 5...
02/08/00 | GA | EASTMAN | HEART OF GEORGIA REGIONAL | FDC 0/1270 | NDB RWY 2, ORIG...
02/09/00 | CO | PUEBLO | PUEBLO MEMORIAL | FDC 0/1323 | GPS RWY 17, ORIG...
02/09/00 | CO | PUEBLO | PUEBLO MEMORIAL | FDC 0/1324 | GPS RWY 35, ORIG...
02/09/00 | FL | FORT LAUDERDALE | FORT LAUDERDALE-HOLLYWOOD INT | FDC 0/1306 | RADAR-1, AMDT 3C...
02/09/00 | VA | NEWPORT NEWS | NEWPORT NEWS/WILLIAMSBURG INTL | FDC 0/1256 | NDB OR GPS RWY 2 AMDT 4B...
02/09/00 | VA | NEWPORT NEWS | NEWPORT NEWS/WILLIAMSBURG INTL | FDC 0/1305 | LOC BC RWY 25 AMDT 13C...
02/10/00 | GA | AUGUSTA | DANIEL FIELD | FDC 0/1365 | RADAR-1, AMDT 6...
02/10/00 | GA | AUGUSTA | DANIEL FIELD | FDC 0/1366 | NDB OR GPS RWY 11, AMDT 2A...
02/10/00 | GA | AUGUSTA | DANIEL FIELD | FDC 0/1367 | NDB/DME OR GPS-C, AMDT 2...
02/10/00 | GA | AUGUSTA | DANIEL FIELD | FDC 0/1368 | VOR/DME RNAV RWY 11, AMDT 5A...
02/10/00 | GA | AUGUSTA | DANIEL FIELD | FDC 0/1369 | VOR/DME OR GPS-B, ORIG...
02/10/00 | TX | MCKINNEY | MCKINNEY MUNI | FDC 0/1343 | VOR/DME OR GPS-A, ORIG-A...
02/10/00 | TX | MCKINNEY | MCKINNEY MUNI | FDC 0/1344 | GPS RWY 17, ORIG...
02/10/00 | TX | MCKINNEY | MCKINNEY MUNI | FDC 0/1345 | GPS RWY 35, ORIG...
02/10/00 | TX | MCKINNEY | MCKINNEY MUNI | FDC 0/1346 | ILS RWY 17, AMDT 1A...
02/11/00 | CA | BURBANK | BURBANK-GLENDALE-PASADENA | FDC 0/1433 | ILS RWY 8 AMDT 35...
02/11/00 | CA | CHICO | CHICO MUNI | FDC 0/1393 | VOR RWY 13L AMDT 9...
02/11/00 | CA | CHICO | CHICO MUNI | FDC 0/1396 | ILS RWY 13L AMDT 10...
02/11/00 | CA | CONCORD | BUCHANAN FIELD | FDC 0/1397 | LDA RWY 19R AMDT 7A...
02/11/00 | CA | CONCORD | BUCHANAN FIELD | FDC 0/1400 | NDB OR GPS RWY 19R ORIG-A...
02/11/00 | CA | CONCORD | BUCHANAN FIELD | FDC 0/1403 | VOR RWY 19R AMDT 12A...
02/11/00 | CA | FRESNO | FRESNO YOSEMITE INTL | FDC 0/1399 | NDB OR GPS RWY 29R AMDT 23A...
02/11/00 | CA | MAMMOTH LAKES | MAMMOTH LAKES | FDC 0/1398 | GPS RWY 27 ORIG...
02/11/00 | FL | NAPLES | NAPLES MUNI | FDC 0/1401 | VOR RWY 23 AMDT 6A...
02/11/00 | FL | NAPLES | NAPLES MUNI | FDC 0/1429 | GPS RWY 23 ORIG-A...
02/11/00 | FL | NAPLES | NAPLES MUNI | FDC 0/1430 | GPS RWY 5 ORIG...
02/11/00 | IN | MARION | MARION MUNI | FDC 0/1417 | VOR OR GPS RWY 15, AMDT 9...
02/11/00 | NV | TONOPAH | TONOPAH | FDC 0/1394 | GPS RWY 15, ORIG THIS CORRECTS FDC NO-TAM 0/0960 IN TL00-05.
02/11/00 | WY | RAWLINS | RAWLINS MUNI | FDC 0/1407 | VOR OR GPS RWY 22, AMDT 1...
02/14/00 | OH | CLEVELAND | BURKE LAKEFRONT | FDC 0/1477 | ILS RWY 24R ORIG...
02/15/00 | CA | ARCATA-EUREKA | ARCATA | FDC 0/1495 | ILS/DME RWY 32 AMDT 1...
02/15/00 | CA | BURBANK | BURBANK-GLENDALE PASADENA | FDC 0/1534 | VOR OR GPS RWY 8 AMDT 10...
02/15/00 | CA | BURBANK | BURBANK-GLENDALE PASADENA | FDC 0/1535 | LOC RWY 8 AMDT 2...
02/15/00 | CA | BURBANK | BURBANK-GLENDALE PASADENA | FDC 0/1536 | NDB RWY 8 AMDT 2...
02/15/00 | CA | CHICO | CHICO MUNI | FDC 0/1509 | VOR/DME RWY 13L AMDT 7...
02/15/00 | CA | CHICO | CHICO MUNI | FDC 0/1517 | VOR/DME RWY 31R ORIG-A...
02/15/00 | UT | OGDEN | OGDEN-HINCKLEY | FDC 0/1541 | VOR RWY 7, AMDT 5A... REPLACES 0/0869
02/15/00 | WY | RAWLINS | RAWLINS MUNI | FDC 0/1503 | NDB OR GPS-A, AMDT 9...
02/16/00 | GA | CALHOUN | TOM B. DAVID FIELD | FDC 0/1584 | NDB OR GPS RWY 35, AMDT 1...

[FR Doc. 00-4488 Filed 2-24-00; 8:45 am]

BILLING CODE 4910-13-M